DEPARTMENT OF AGRICULTURE

Animal and Plant Health Inspection Service

[Docket No. APHIS-2025-0703]

Notice of Request for Revision to and Extension of Approval of an Information Collection; National Poultry Improvement Plan (NPIP)

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the National Poultry Improvement Plan.

DATES: We will consider all comments that we receive on or before March 23, 2026.

ADDRESSES: You may submit comments by either of the following methods:

• Federal eRulemaking Portal: Go to http://www.regulations.gov. Enter APHIS-2025-0703 in the Search field. Select the Documents tab, then select the Comment button in the list of documents.

• Postal Mail/Commercial Delivery: Send your comment to Docket No. APHIS-2025-0703, Regulatory Analysis and Development, PPD, APHIS, 5601 Sunnyside Ave., #AP760, Beltsville, MD 20705.

Supporting documents and any comments we receive on this docket may be viewed at http://www.regulations.gov or in our reading room, which is in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the National Poultry Improvement Plan, contact Dr. Savannah Busby, DVM, Acting Senior Coordinator, National Poultry Improvement Plan, Veterinary Services, APHIS, 1506 Klondike Road SW, Suite 301, Conyers, GA 30094; (678) 501-1476. For more information on the information collection reporting process, contact Ms. Sheniqua Harris, APHIS' Paperwork Reduction Act Coordinator, at (301) 851-2528 or email APHIS.PRA@usda.gov.

SUPPLEMENTARY INFORMATION:

Title: National Poultry Improvement Plan (NPIP).

OMB Control Number: 0579-0007.

Type of Request: Revision to and extension of approval of an information collection.

Abstract: Under the Animal Health Protection Act (7 U.S.C. 8301 et seq.) the Animal and Plant Health Inspection Service (APHIS) of the U.S. Department of Agriculture (USDA), is authorized, among other things, to administer the National Poultry Improvement Plan (NPIP), the primary purpose of which is to protect the health of the U.S. poultry population. NPIP is a Federal-State-industry cooperative program for the improvement of poultry flocks and products through disease control techniques. Participation in all NPIP programs is voluntary, but flocks, hatcheries, and dealers of breeding poultry must first qualify as “U.S. Pullorum-Typhoid Clean” as a condition for participation in NPIP programs. The NPIP regulations are contained in 9 CFR part 56, and parts 145 through 147.

To administer the NPIP, APHIS requires a number of activities to include memoranda of understanding; flock selecting and testing reports and commercial waterfowl/game bird egg producing flock surveillance; reports of sales of hatching eggs, chicks and poults (including printing and mailing computerized printouts for small shipments); summaries of breeding flock, table-egg layer flock, meat-type chicken and turkey slaughter plant participation; reports of hatcheries, dealers, and independent flocks, table-egg producers, meat-type chicken and turkey slaughter plants participating in the NPIP; investigations of salmonella isolations in poultry; flock inspection and check testing reports; and hatchery inspection forms. Activities also include banding or marking of sentinel birds for identification prior to flock vaccination; requests for salmonella serotyping; applications for U.S. Avian influenza and Newcastle Clean Compartment and Clean Component Registrations and requests for removal; component audits; auditor applications for NPIP AI Clean Compartment Program; and compliance statements. Activities further include descriptions of animal identification and traceability processes; laboratory examination for Newcastle disease and reporting; diagnostic test evaluations; Newcastle disease biosecurity plans; indemnity compliance agreements; appraisal and indemnity claims for animals or materials destroyed; initial state response and containment plans; and recordkeeping.

We are asking OMB to approve our use of these information collection activities, as described, for an additional 3 years. APHIS has amended this information collection by correcting the number of Respondents reporting showing an increase which were miscounted in the previous collection; however, the number of Responses and Total Burden Hours slightly decreases.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.472 hours per response.

Respondents: State agriculture officials; flock owners; breeders; hatchery operators; table-egg, meat-type chicken, and meat-type turkey producers; feedlot and slaughter plant personnel; approved laboratory personnel; prospective and certified auditors; visitors, and associated entities.

Estimated annual number of respondents: 4,555.

Estimated annual number of responses per respondent: 51.

Estimated annual number of responses: 234,529.

Estimated total annual burden on respondents: 110,738 hours. (Due to averaging, the total annual burden hours may not equal the product of the annual number of responses multiplied by the reporting burden per response.)

All responses to this notice will be summarized and included in the request for OMB approval. All comments will also become a matter of public record.

Done in Washington, DC, this 15th day of January 2026.
Michael Watson,
Administrator, Animal and Plant Health Inspection Service.

[FR Doc. 2026-00995 Filed 1-16-26; 8:45 am]

BILLING CODE 3410-34-P